DEPARTMENT OF HOMELAND SECURITY

Federal Emergency Management Agency

[Docket ID: FEMA-2022-0037; OMB No. 1660-NW163]

Agency Information Collection Activities: Proposed Collection; Comment Request; Generic Clearance for Notice of Loss and Proof of Loss

AGENCY: Federal Emergency Management Agency, Department of Homeland Security.

ACTION: 60-Day notice and request for comments.

SUMMARY: The Federal Emergency Management Agency (FEMA), as part of its continuing effort to reduce paperwork and respondent burden, invites the general public to take this opportunity to comment on a new information collection. In accordance with the Paperwork Reduction Act of 1995, this notice seeks comments concerning the Generic Clearance for the Collection of the Notice of Loss and Proof of Loss for claimants who file a claim with the Agency seeking compensation for injury or loss of property resulting from fires.

DATES: Comments must be submitted on or before July 5, 2023.

ADDRESSES: Submit comments at www.regulations.gov under Docket ID FEMA-2023-0037. Follow the instructions for submitting comments.

All submissions received must include the Agency name and Docket ID, and will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Angelica Searls, Emergency Management Specialist, Recovery Directorate, Federal Emergency Management Agency, 202-701-9021, fema-hermits-peak@fema.dhs.gov. You may contact the Information Management Division for copies of the proposed collection of information at email address: FEMA-Information-Collections-Management@fema.dhs.gov.

SUPPLEMENTARY INFORMATION: FEMA proposes to collect information from parties who apply for compensation under FEMA-established fire claims programs stemming from its role providing financial assistance and direct services to individuals applying for disaster assistance benefits in the event of a federally declared disaster as specified by The Robert T. Stafford Disaster Relief and Emergency Assistance Act (Stafford Act), Public Law 93-288, as amended (42 U.S.C. 5121-5207). On September 30, 2022, President Biden signed into law the Hermit's Peak/Calf Canyon Fire Assistance Act (“Act”) Public Law 117-180, division G—Hermit's Peak/Calf Canyon Fire Assistance Act. Congress passed the Act to compensate those parties who suffered injury and loss of property from the Hermit's Peak/Calf Canyon Fire. Such a generic clearance will minimize delays in FEMA's ability to respond to future fire incidents resulting in the establishment of claims offices.

Collection of Information

Title: Generic Clearance for Notice of Loss and Proof of Loss.

Type of Information Collection: New information collection.

OMB Number: 1660-NW163.

FEMA Forms: None.

Abstract: The Federal Emergency Management Agency will use the collected information to commence the process and procedures for claimants to seek compensation for injury or loss of property resulting from the Hermit's Peak/Calf Canyon Fire and other Fires that meet the criteria. Affected State, local and Tribal governments, private sector businesses, not-for-profit organizations, and individuals and households that suffered injuries resulting from Fires will be eligible to apply for compensation. Claimants will submit a Notice of Loss to the Agency, meet with a FEMA Claims Reviewer, obtain documentation needed to substantiate claims, sign a Proof of Loss, and complete and return a Release and Certification form.

Affected Public: Individuals or households, State, local or Tribal government, private sector businesses, and not-for-profit organizations.

Estimated Number of Respondents: 287,250.

Estimated Number of Responses: 287,250.

Estimated Total Annual Burden Hours: 732,490.

Estimated Total Annual Respondent Cost: $31,606,900.

Estimated Respondents' Operation and Maintenance Costs: $0.

Estimated Respondents' Capital and Start-Up Costs: $0.

Estimated Total Annual Cost to the Federal Government: $65,103,002.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Records Management Branch Chief, Office of the Chief Administrative Officer, Mission Support, Federal Emergency Management Agency, Department of Homeland Security.

[FR Doc. 2023-09612 Filed 5-4-23; 8:45 am]

BILLING CODE 9111-68-P